NATIONAL SCIENCE FOUNDATION

Proposal Review Panel for International Science and Engineering, Notice of Meeting

In accordance with the Federal Advisory Committee Act (Pub. L. 92-463, as amended), the National Science Foundation (NSF) announces the following meeting:

NAME AND COMMITTEE CODE: Proposal Review Panel for Office of International Science and Engineering—PIRE-Sustainable Communities & Gold Supply Chains: Integrating Responsible Engineering & Local Knowledge to Design, Implement & Evaluate Sustainable Artisanal Mining in Latin America (10749)—Reverse Site Visit.

DATE AND TIME: February 27, 2020; 8 a.m.-5 p.m.

PLACE: National Science Foundation, 2415 Eisenhower Avenue, Room E 3350, Alexandria, VA 22314.

TYPE OF MEETING: Part open.

CONTACT PERSON: Maija Kukla, PIRE Program Manager, National Science Foundation, 2415 Eisenhower Avenue, Alexandria, VA 22314; Telephone 703/292-7250.

PURPOSE OF MEETING: NSF reverse site visit to conduct a review during year 3 of the five-year award period. To conduct an in-depth evaluation of performance, to assess progress towards goals, and to provide recommendations.

AGENDA: See attached.

REASON FOR CLOSING: Topics to be discussed and evaluated during closed portions of the reverse site review will include information of a proprietary or confidential nature, including technical information; and information on personnel. These matters are exempt under 5 U.S.C. 552b(c), (4) and (6) of the Government in the Sunshine Act.

Dated: January 29, 2020.
Crystal Robinson,
Committee Management Officer.

Partnerships for International Research and Education (PIRE) Reverse Site Visit Agenda

Date: Thursday, February 27, 2020

8:00 a.m. Panelists arrive. Coffee/light refreshments available.

8:15 a.m.-8:45 a.m. Panel Orientation (CLOSED)

PIRE Rationale and Goals

Charge to Panel

8:45 a.m. PIs Arrive/Introductions

9:00 a.m.-11:00 a.m. PIRE Project Presentation

Overview of the Project and Project Management (Lucena)

Research Accomplishments and Impacts to Date (Smits and Schwartz)

Benefits of International Partnerships (Lucena and Roos)

Integrating Research and Education (Smits, Schwartz and Phelan)

Educational Impact on Students (Phelan, Schwartz and Roberts)

Research Plan and Future Activities to Achieve the Projects Goals (Lucena, Smits and Phelan)

11:00 a.m.-11:30 a.m. Questions and Answers

12:00 p.m.-1:30 p.m. Working Lunch—Panel Discussion—(CLOSED)

1:30 p.m.-2:00 p.m. Student recruitment (Lucena, Smits and Phelan)

Diversity (Roos)

Communication and Outreach (Lucena)

Evaluation and Assessment (Roos)

Institutional Support (Lucena, Smits and Phelan)

2:00 p.m.-3:00 p.m. Initial Feedback to the PIRE Project Team (CLOSED)

3:00 p.m. PIRE Project Team is dismissed

3:00 p.m.-4:30pm Panel Meets to Prepare Reverse Site Visit Report (CLOSED)

4:30 p.m.-4:45 p.m. Panel Meets with NSF Staff to Discuss the Report (CLOSED)

5:00 p.m. End of Reverse Site Visit

[FR Doc. 2020-01943 Filed 1-31-20; 8:45 am]

BILLING CODE 7555-01-P